DEPARTMENT OF THE INTERIOR

National Park Service

[2253-665]

Notice of Inventory Completion: U.S. Department of Agriculture, Forest Service, Gila National Forest, Silver City, NM and Field Museum of Natural History, Chicago, IL

AGENCY: National Park Service, Interior.

ACTION: Notice.

SUMMARY: The U.S. Department of Agriculture, Forest Service, Gila National Forest and the Field Museum of Natural History have completed an inventory of human remains and associated funerary objects, in consultation with the appropriate Indian tribes, and have determined that there is a cultural affiliation between the human remains and associated funerary objects and present-day Indian tribes. Representatives of any Indian tribe that believes itself to be culturally affiliated with the human remains and associated funerary objects may contact the U.S. Department of Agriculture, Forest Service, Gila National Forest. Repatriation of the human remains and associated funerary objects to the Indian tribes stated below may occur if no additional claimants come forward.

DATES: Representatives of any Indian tribe that believes it has a cultural affiliation with the human remains and associated funerary objects should contact the U.S. Department of Agriculture, Forest Service, Gila National Forest at the address below by August 22, 2011.

ADDRESSES: Dr. Frank E. Wozniak, Southwestern Region and National NAGPRA Coordinator, U.S. Department of Agriculture, Forest Service, 333 Broadway Blvd., SE., Albuquerque, NM 87102, telephone (505) 842-3238.

SUPPLEMENTARY INFORMATION: Notice is here given in accordance with the Native American Graves Protection and Repatriation Act (NAGPRA), 25 U.S.C. 3003, of the completion of an inventory of human remains and associated funerary objects in the control of the U.S. Department of Agriculture, Forest Service, Gila National Forest, Silver City, NM, and in the possession of the Field Museum of Natural History, Chicago, IL. The human remains and associated funerary objects were removed from the Gila National Forest, Catron Country, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the U.S. Department of Agriculture, Forest Service, Gila National Forest professional staff in consultation with representatives of the Hopi Tribe of Arizona; Pueblo of Acoma, New Mexico; and the Zuni Tribe of the Zuni Reservation, New Mexico (hereinafter referred to as “The Tribes”).

History and Description of the Remains

Between 1935 and 1955, human remains and associated funerary objects were recovered from the SU site, Oak Springs Pueblo, Tularosa Cave, Apache Creek Pueblo, the Turkey Foot Ridge site, Wet Leggett Pueblo, Three Pines Pueblo, South Leggett Pueblo and Valley View Pueblo, in Gila National Forest, Catron County, NM, by Dr. Paul Martin of the Field Museum of Natural History, Chicago, IL. There have been several Notices of Inventory Completion (NICs) published in the Federal Register for these sites (63 FR 39293-39294, July 22, 1998; 70 FR 44686-44687, August 3, 2005; 70 FR 56483-56484, September 27, 2005; and 71 FR 38413, July 6, 2006). The human remains and associated funerary objects described in those NICs have been repatriated. In 2009 and 2010, the Field Museum of Natural History staff undertook a reassessment of archeological materials removed from the Gila National Forest. Further, in 2010, a large portion of the North American archeological collections were moved to a new location in the museum. During the course of the re-examination and transfer, additional human remains and associated funerary objects from Tularosa Cave, Apache Creek Pueblo, the Turkey Foot Ridge site, Wet Leggett Pueblo, Three Pines Pueblo, and Valley View Pueblo were discovered that had not been described in the previously published NICs. The additional human remains and associated funerary objects are currently in the possession of the Field Museum of Natural History. The human remains represent a minimum of 21 individuals. No known individuals were identified. There are five additional associated funerary objects which include sherds, a stone tool, faunal remains, and adobe.

Based on material culture, architecture, and site organization, the sites have been identified as Upland Mogollon sites. Continuities of ethnographic materials, technology, and architecture indicate affiliation of Upland Mogollon sites with historic and present-day Puebloan cultures. Oral traditions presented by representatives of The Tribes support cultural affiliation with these Upland Mogollon sites in this portion of southwestern New Mexico.

Determinations Made by the U.S. Department of Agriculture, Forest Service, Gila National Forest

Officials of the U.S. Department of Agriculture, Forest Service, Gila National Forest have determined that:

• Pursuant to 25 U.S.C. 3001(9), the human remains described above represent the physical remains of 21 individuals of Native American ancestry.

• Pursuant to 25 U.S.C. 3001 (3)(A), the five objects described above are reasonably believed to have been placed with or near individual human remains at the time of death or later as part of the death rite or ceremony.

• Pursuant to 25 U.S.C. 3001(2), there is a relationship of shared group identity that can be reasonably traced between the human remains and associated funerary objects and The Tribes.

Additional Requestors and Disposition

Representatives of any other Indian tribe that believes itself to be culturally affiliated with the human remains and associated funerary objects should contact Dr. Frank E. Wozniak, Southwestern Region and National NAGPRA Coordinator, U.S. Department of Agriculture, Forest Service, 333 Broadway Blvd., SE, Albuquerque, NM 87102, telephone (505) 842-3238, before August 22, 2011. Repatriation of the human remains and associated funerary objects to The Tribes may proceed after that date if no additional claimants come forward.

The U.S. Department of Agriculture, Forest Service, Gila National Forest is responsible for notifying The Tribes that this notice has been published.

Dated: July 14, 2011.
Sherry Hutt,
Manager, National NAGPRA Program.

[FR Doc. 2011-18361 Filed 7-20-11; 8:45 am]

BILLING CODE 4312-50-P